DEPARTMENT OF THE INTERIOR

National Park Service

[2253-665]

Notice of Inventory Completion: University of Colorado Museum, Boulder, CO

AGENCY: National Park Service, Interior.

ACTION: Notice.

SUMMARY: The University of Colorado Museum has completed an inventory of human remains and an associated funerary object in consultation with the appropriate Indian tribes, and has determined that there is no cultural affiliation between the human remains and associated funerary object and any present-day Indian tribe. Representatives of any Indian tribe that believes itself to be culturally affiliated with the human remains and associated funerary object may contact the University of Colorado Museum. Disposition of the human remains and associated funerary object to the Indian tribes stated below may occur if no additional requestors come forward.

DATES: Representatives of any Indian tribe that believes it has a cultural affiliation with the human remains and associated funerary object should contact the University of Colorado Museum at the address below by November 10, 2011.

ADDRESSES: Steve Lekson, Curator of Anthropology, University of Colorado Museum, Campus Box 218, Boulder, CO 80309, telephone (303) 492-6671.

SUPPLEMENTARY INFORMATION: Notice is here given in accordance with the Native American Graves Protection and Repatriation Act (NAGPRA), 25 U.S.C. 3003, of the completion of an inventory of human remains and an associated funerary object in the possession of the University of Colorado Museum, Boulder, CO. The human remains and associated funerary object were removed from Culberson, El Paso, and Hudspeth Counties, TX.

This notice is published as part of the National Park Service's administrative responsibilities under NAGPRA, 25 U.S.C. 3003(d)(3) and 43 CFR 10.11(d). The determinations in this notice are the sole responsibility of the museum, institution, or Federal agency that has control of the Native American human remains and associated funerary object. The National Park Service is not responsible for the determinations in this notice.

Consultation

A detailed assessment of the human remains and associated funerary object was made by the University of Colorado Museum professional staff in consultation with representatives of the Apache Tribe of Oklahoma; Fort Sill Apache Tribe of Oklahoma; Hopi Tribe of Arizona; Jicarilla Apache Nation, New Mexico; Mescalero Apache Tribe of the Mescalero Reservation, New Mexico; Pueblo of Acoma, New Mexico; Pueblo of Zia, New Mexico; San Carlos Apache of the San Carlos Reservation, Arizona; Tonto Apache Tribe of Arizona; White Mountain Apache Tribe of the Fort Apache Reservation, Arizona; Ysleta del Sur Pueblo of Texas; and Zuni Tribe of the Zuni Reservation, New Mexico (hereinafter referred to as “The Tribes”).

History and Description of the Remains

On an unknown date, human remains (a cremation) representing a minimum of one individual were removed from south of Van Horn, Culberson County, TX by Joe Ben Wheat, the University of Colorado Museum's curator of anthropology from 1953 to 1988. In November 2009, the human remains (TIN 0290) were found in the museum collection. The human remains have been identified as Jornada Mogollon based on other material culture collected from the same location. No known individual was identified. No associated funerary objects are present.

On an unknown date, human remains representing a minimum of one individual were removed from either Culberson, El Paso, or Hudspeth County, TX by Dr. Wheat, or near Fort Bayard, Grant County, NM by Hugo G. Rodeck, the University of Colorado Museum's director from 1939 to 1971. In November 2009, the human remains (a tooth) (TIN 0091) were found in the collection. The human remains have been identified as Mogollon- most likely Jornada Mogollon- based on the material culture collected from the same location. No known individual was identified. No associated funerary objects are present.

On an unknown date, human remains representing a minimum of one individual were removed from “Hueco Mountain area camps 1, 2, 3; Hot Wells Section; below Basketmaker caves,” in El Paso or Hudspeth Counties, TX by Dr. Wheat. In November 2009, the human remains (a tooth) (TIN 0162) were found in the collection. The human remains have been identified as Jornada Mogollon based on the provenience. No known individual was identified. No associated funerary objects are present.

On an unknown date, human remains representing a minimum of three individuals were removed from the Hueco Mountains, El Paso and Hudspeth Counties, TX by Dr. Wheat. In November 2009, the human remains (a tooth (TIN 0195) and two vertebrae (TIN 0257) and (TIN 0458)) were found in the collection. The human remains have been identified as Jornada Mogollon based on other material culture collected from the same location. No known individuals were identified. One funerary object, a projectile point, is associated with one of the vertebrae (TIN 0458).

On an unknown date, human remains representing a minimum of one individual were removed from Hudspeth County, TX by Dr. Wheat. In November 2009, the human remains (a tooth) (TIN 0186) were found in the collection. The human remains have been identified as Jornada Mogollon based on other material culture collected from the same location. No known individual was identified. No associated funerary objects are present.

Determinations Made by the University of Colorado Museum

Officials of the University of Colorado Museum have determined that:

• Based on locational information and the material culture believed to have come from those same locations, the human remains are Native American.

• Pursuant to 25 U.S.C. 3001(2), a relationship of shared group identity cannot be reasonably traced between the Native American human remains and associated funerary object and any present-day Indian tribe.

• According to final judgments of the Indian Claims Commission, the land from which the Native American human remains and associated funerary object were removed is the aboriginal land of the Fort Sill Apache Tribe of Oklahoma; Mescalero Apache Tribe of the Mescalero Reservation, New Mexico; White Mountain Apache Tribe of the Fort Apache Reservation, Arizona; and Ysleta del Sur Pueblo of Texas.

• Multiple lines of evidence, including treaties, Acts of Congress, and Executive Orders, indicate that the land from which the Native American human remains and associated funerary object were removed is the aboriginal land of the Apache Tribe of Oklahoma; Fort Sill Apache Tribe of Oklahoma; Jicarilla Apache Nation, New Mexico; Mescalero Apache Tribe of the Mescalero Reservation, New Mexico; San Carlos Apache of the San Carlos Reservation, Arizona; Tonto Apache Tribe of Arizona; and White Mountain Apache Tribe of the Fort Apache Reservation, Arizona.

• Other credible lines of evidence indicate that the land from which the Native American human remains and associated funerary object were removed is the aboriginal land of the Hopi Tribe of Arizona; Pueblo of Acoma, New Mexico; Pueblo of Zia, New Mexico; and Zuni Tribe of the Zuni Reservation, New Mexico.

• Pursuant to 25 U.S.C. 3001(9), the human remains described above represent the physical remains of seven individuals of Native American ancestry.

• Pursuant to 25 U.S.C. 3001(3)(A), the one object described above is reasonably believed to have been placed with or near individual human remains at the time of death or later as part of the death rite or ceremony.

• Pursuant to 43 CFR 10.11(c)(1), the disposition of the human remains and associated funerary object is to the Pueblo of Acoma, New Mexico.

Additional Requestors and Disposition

Representatives of any Indian tribe that believes itself to be culturally affiliated with the human remains and associated funerary object, or any other Indian tribe that believes it satisfies the criteria in 43 CFR 10.11(c)(1) should contact Steve Lekson, Curator of Anthropology, University of Colorado Museum, Campus Box 218, Boulder, CO 80309, telephone (303) 492-6671, before November 10, 2011. Disposition of the human remains and associated funerary object to the Pueblo of Acoma, New Mexico, may proceed after that date if no additional claimants come forward.

The University of Colorado Museum is responsible for notifying The Tribes that this notice has been published.

Dated: October 3, 2011.
Sherry Hutt,
Manager, National NAGPRA Program.

[FR Doc. 2011-26153 Filed 10-7-11; 8:45 am]

BILLING CODE 4312-50-P